CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed Learn and Serve America Progress Report for all 2003 grantees. Copies of the information collection request can be obtained by contacting the office listed below in the ADDRESSES section of this notice.

DATES: Written comments must be submitted to the office listed in the ADDRESSES section by December 15, 2003.

ADDRESSES: Send comments to the Corporation for National and Community Service, Attention Mr. Mark Abbott, Associate Director for Grants Management, Learn and Serve America, 1201 New York Avenue, NW., Washington, DC 20525.

FOR FURTHER INFORMATION CONTACT: Mark W. Abbott at (202) 606-5000, ext 120 or by e-mail at mabbott@cns.gov.

SUPPLEMENTARY INFORMATION: The Corporation is seeking comments that:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques.

Background

Currently, Learn and Serve America collects progress reports twice per grant cycle. The progress reports are used to evaluate grantees progress towards meeting performance measures and to help evaluate grantees' Continuation Applications for second and third year funding requests. This year all grantees will be strongly encouraged to file progress reports on eGrants, the Corporation's web-based grant management system.

Current Action

The Corporation is seeking public comment for approval of the twice yearly program Progress Report.

Type of Review: New information collection.

AGENCY: Corporation for National and Community Service.

Title: Learn and Serve America Progress Report.

OMB Number: None.

Agency Number: None.

Affected Public: Current LSA Grantees.

Total Respondents: 134.

Frequency: Twice per year.

Average Time Per Response: 2 hours.

Estimated Total Burden Hours: 536 hours.

Total Burden Cost (capital/startup): None.

Total Burden Cost (operating/maintenance): None.

Comments submitted in response to this notice will be summarized and/or included in the request for Office of Management and Budget approval of the information collection request; they will also become a matter of public record.

Dated: October 7, 2003.
Amy B. Cohen,
Director, Learn and Serve America.

[FR Doc. 03-25947 Filed 10-10-03; 8:45 am]

BILLING CODE 6050-$$-P